DEPARTMENT OF HOUSING AND URBAN DEVELOPMENT

[Docket No. FR-7092-N-28]

Privacy Act of 1974; System of Records

AGENCY: Office of Departmental Equal Employment Opportunity, HUD.

ACTION: Notice of a rescindment of a system of records.

SUMMARY: Pursuant to the provisions of the Privacy Act of 1974, as amended, the Department of Housing and Urban Development (HUD), the Office of Department Equal Employment Opportunity, is issuing a public notice of its intent to rescind the Equal Employment Opportunity Monitoring and Analysis System (EEOMAS) because it duplicates EEOC/GOVT-1, a Government Wide SORN that takes precedence.

DATES: Comments will be accepted on or before June 20, 2024. This proposed action will be effective immediately upon publication.

ADDRESSES: You may submit comments, identified by one of the following methods:

Federal e-Rulemaking Portal: http://www.regulations.gov. Follow the instructions provided on that site to submit comments electronically.

Fax: 202-619-8365.

Email: privacy@hud.gov.

Mail: Attention: Privacy Office; LaDonne White, Chief Privacy Officer; The Executive Secretariat; 451 Seventh Street SW, Room 10139, Washington, DC 20410-0001.

Instructions: All submissions received must include the agency name and docket number for this rulemaking. All comments received will be posted without change to http://www.regulations.gov including any personal information provided.

Docket: For access to the docket to read background documents or comments received go to http://www.regulations.gov.

FOR FURTHER INFORMATION CONTACT: LaDonne White, Chief Privacy Officer, 451 Seventh Street SW, Room 10139, Washington, DC 20410; telephone number (202) 708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: Equal Employment Opportunity Monitoring and Analysis System (EEOMAS) is the management information system used to monitor and evaluate the Department's equal employment and affirmative employment efforts and accomplishments. It contains selected personal information on each HUD employee which is essential in conducting demographic analyses between the work force and the civilian labor force and concentration analyses of the dispersion of employees within the work force. The EEOMAS system of records continues to operate and will leverage the government wide SORN, EEOC/GOVT-1.

SYSTEM NAME AND NUMBER:

Equal Employment Opportunity Monitoring and Analysis System (EEOMAS). HUD/ODEEO/01.

HISTORY:

64 FR 33901(June 24, 1999), Agency Docket No. FR-4456-N-03.

Ladonne White,
Chief Privacy Officer, Office of Administration.

[FR Doc. 2024-11112 Filed 5-20-24; 8:45 am]

BILLING CODE 4210-67-P